DEPARTMENT OF TRANSPORTATION

Federal Railroad Administration

[Docket Numbers FRA-2014-0124 and FRA-2013-0128]

Petition for Waiver of Compliance

In accordance with Part 211 of Title 49 Code of Federal Regulations (CFR), this document provides the public notice that by a document dated November 18, 2014, the National Railroad Passenger Corporation (Amtrak) petitioned the Federal Railroad Administration (FRA) for a waiver of compliance from certain provisions of the Federal railroad safety regulations contained in 49 CFR, governing the operation of passenger trains on the Northeast Corridor (NEC). Relief was also requested from speed limitations imposed by the Order of Particular Applicability for the Advanced Civil Speed Enforcement System (ACSES) Order. [FRA Docket No. 87-2, Notice No. 7; 63 FR 39343; July 28, 1998]. FRA assigned the petition Docket Number FRA-2014-0124.

Amtrak's petition incorporated by reference a prior request for relief in Docket Number FRA-2013-0128 (see 79 FR 8238; Feb. 11, 2014). Accordingly, additional comments may be submitted regarding the petition in Docket Number FRA-2013-0128 as well as on the new petition in FRA-2014-0124.

The Amtrak petitions address two distinct requests. First, both petitions request permission to operate existing Acela trainsets, built in compliance with the specific requirements for Tier II equipment under 49 CFR part 238 subpart E, at speeds up to 160 miles per hour (mph) in three speed zones where track conditions can support higher speeds than currently operated. As discussed above, Amtrak's earlier petition in Docket Number FRA-2013-0128 proposed the same speed increase for a segment of track in Rhode Island, milepost (MP) AB 154.3 to MP AB 171.7.

The new petition in Docket Number FRA-2014-0124 adds a request for a 160 mph speed zone in Massachusetts (MP AB 194 to MP AB 204) and—subject to completion of certain infrastructure improvements—a 160 mph speed zone in New Jersey (MP AN 33 to MP AB 55.5).

In summary, Amtrak seeks a waiver of provisions in the ACSES Order and the 150 mph limitation for Tier II equipment in the Passenger Equipment Safety Standards to permit operation up to 160 mph in each of these discrete zones. Amtrak does not seek to use the existing Acela trainsets at speeds higher than presently authorized elsewhere on the NEC. Amtrak notes that increasing speeds in the subject zones would be subject to special approvals qualifying the existing Acela Tier II trainsets at the higher speed under 49 CFR part 213, Track Safety Standards, and regulations governing Positive Train Control, such as 49 CFR part 236, Rules, Standards, and Instructions Governing the Installation, Inspection, Maintenance, and Repair of Signal and Train Control Systems, Devices, and Appliances. With FRA oversight, Amtrak has been conducting tests that, although not yet concluded, are intended by Amtrak to support qualification of the existing trainsets and train control system for 160 mph operation. Successful completion of these processes would be necessary for Amtrak to use any relief related to the Acela service that might be granted in this proceeding.

Secondly, in Docket Number FRA-2014-0124, Amtrak requests approval to operate, on the “spine” of the NEC between Washington, DC and Boston, new trainsets that would be built to “Tier III” standards proposed by the second Engineering Task Force (ETF) of the Passenger Safety Working Group of the Railroad Safety Advisory Committee (RSAC). Those standards were accepted by the full RSAC on June 14, 2013, (see “ETF_001-02—Proposed Ruletext for NPRM 1.docx,” available on the RSAC Web site at https://rsac.fra.dot.gov/meetings/20130614.php.). Minutes of the June 14, 2013, RSAC meeting are available at https://rsac.fra.dot.gov/meetings/20131031.php.

Amtrak proposes to use Tier III equipment on the NEC at speeds up to 160 mph (rather than the 220 mph maximum contemplated for Tier III equipment operating on dedicated right-of-way). In support of this request, Amtrak has submitted a review of NEC operating experience that Amtrak represents as demonstrating a high level of safety, supported by compliance with FRA safety regulations and existing risk mitigations undertaken as voluntary measures. Amtrak notes that Tier III trainsets would be operated at greater than Tier I speeds (i.e., above 125 mph) only on the fully grade-separated portions of the NEC in designated high-speed zones.

In further support of its Tier III request, Amtrak has submitted the report of a semi-quantitative risk assessment and a description of specific safety mitigations designed to compensate for the differences in crashworthiness between equipment built to Tier II and Tier III standards. Amtrak asserts that, with the existing and proposed mitigations, Tier III equipment can be operated at a level of safety equivalent to, or better than, operations with Tier II equipment. Amtrak's petition and exhibits are available for reference in Docket Number FRA-2014-0124.

Amtrak asserts that all of the relief requested is consistent with safety and in the public interest.

Copies of the petitions, as well as any written communications concerning the petitions, are available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. If any interested party desires an opportunity for oral comment and a public hearing, they should notify FRA, in writing, before the end of the comment period and specify the basis for their request.

All communications concerning these proceedings should identify the appropriate docket number and may be submitted by any of the following methods:

Web site: http://www.regulations.gov. Follow the online instructions for submitting comments.

Fax: 202-493-2251.

Mail: Docket Operations Facility, U.S. Department of Transportation, 1200 New Jersey Avenue SE., W12-140, Washington, DC 20590.

Hand Delivery: 1200 New Jersey Avenue SE., Room W12-140, Washington, DC 20590, between 9 a.m. and 5 p.m., Monday through Friday, except Federal Holidays.

Communications received by April 13, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on February 19, 2015.
Ron Hynes,
Director, Office of Technical Oversight.

[FR Doc. 2015-03763 Filed 2-24-15; 8:45 am]

BILLING CODE 4910-06-P